DEPARTMENT OF ENERGY

Federal Energy Regulatory Commission

Combined Notice of Filings

Take notice that the Commission has received the following Natural Gas Pipeline Rate and Refund Report filings:

Filings Instituting Proceedings

Docket Numbers: RP14-1271-000.

Applicants: Enable Gas Transmission, LLC.

Description: § 4(d) rate filing per 154.403(d)(2): Fuel Tracker Filing Effective November 2014 to be effective 11/1/2014.

Filed Date: 9/24/14.

Accession Number: 20140924-5060.

Comments Due: 5 p.m. ET 10/6/14.

Docket Numbers: RP14-1272-000.

Applicants: National Grid LNG, LLC.

Description: Compliance filing per 154.203: Petition for Approval of Settlement.

Filed Date: 9/24/14.

Accession Number: 20140924-5086.

Comments Due: 5 p.m. ET 10/6/14.

Docket Numbers: RP14-1273-000.

Applicants: Enable Mississippi River Transmission, L.

Description: 2014 Penalty Revenue Credit Filing for Enable Mississippi River Transmission, LLC.

Filed Date: 9/24/14.

Accession Number: 20140924-5087.

Comments Due: 5 p.m. ET 10/6/14.

Docket Numbers: RP14-1274-000.

Applicants: Transcontinental Gas Pipe Line Company.

Description: Compliance filing per 154.203: Annual Cash-Out Report Period Ending July 31, 2014.

Filed Date: 9/24/14.

Accession Number: 20140924-5116.

Comments Due: 5 p.m. ET 10/6/14.

Docket Numbers: RP14-1275-000.

Applicants: Mojave Pipeline Company, L.L.C.

Description: Compliance filing per 154.203: Petition to Amend and/or Approval of S&A assoc. with Docket No. RP10-1082 to be effective 12/31/9998.

Filed Date: 9/24/14.

Accession Number: 20140924-5136.

Comments Due: 5 p.m. ET 10/6/14.

Docket Numbers: RP14-1276-000.

Applicants: Gulf South Pipeline Company, LP.

Description: § 4(d) rate filing per 154.204: Amendment to Neg Rate Agmt (QEP 36601-26) to be effective 10/1/2014.

Filed Date: 9/25/14.

Accession Number: 20140925-5012.

Comments Due: 5 p.m. ET 10/7/14.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2014.
Nathaniel J. Davis, Sr.,
Deputy Secretary.

[FR Doc. 2014-23426 Filed 10-1-14; 8:45 am]

BILLING CODE 6717-01-P